DEPARTMENT OF EDUCATION

[Docket No.: ED-2025-SCC-1174]

Agency Information Collection Activities; Submission to the Office of Management and Budget for Review and Approval; Comment Request; the Recognition Process for Accrediting Agencies, State Approval Agencies; Evaluation of Foreign Medical, and Foreign Veterinary Accrediting Agencies (e-Recognition)

AGENCY: Office of Postsecondary Education (OPE), Department of Education (ED).

ACTION: Notice.

SUMMARY: In accordance with the Paperwork Reduction Act (PRA) of 1995, the Department is proposing an extension without change of a currently approved information collection request (ICR).

DATES: Interested persons are invited to submit comments on or before March 30, 2026.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Amy Wilson, (202) 987-1318.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: The Recognition Process for Accrediting Agencies, State Approval Agencies; Evaluation of Foreign Medical, and Foreign Veterinary Accrediting Agencies (e-Recognition).

OMB Control Number: 1840-0788.

Type of Review: Extension without change of a currently approved ICR.

Respondents/Affected Public: Individual and Households.

Total Estimated Number of Annual Responses: 16.

Total Estimated Number of Annual Burden Hours: 347,648.

Abstract: The United States (U.S.) Secretary of Education (the Secretary) is required by law to publish a list of nationally recognized accrediting agencies that have been determined to be reliable authorities regarding the quality of education or training offered by the institutions or programs they accredit. The system is the e-Recognition system. In determining whether a specific agency should be recognized, the Secretary evaluates the submission for compliance with the criteria for Recognition contained in regulations. The collection of information is necessary for the Secretary to evaluate compliance with each of the criteria and to monitor the continued compliance with the criteria during any period of recognition granted. The authority for collecting this information is contained in the Higher Education Act of 1965, as amended § 496 (HEA), and implementing regulations at 34 CFR 602. The data is required in order for recognized accrediting agencies to demonstrate compliance with 34 CFR 602. The Secretary will use these criteria in determining whether an accrediting agency is a reliable authority as to the quality of education or training provided by institutions of higher education they accredit. The data is required by State Agencies for the approval of Vocational Education to demonstrate compliance with 34 CFR 603. The Secretary will use these criterial to determine whether a State Agency for the Approval of Vocational Education is a reliable authority as to the quality of education or training provided by the vocational institutions of higher education they accredit. The data is also required in order for State approval Agencies for Nurse Education to demonstrate compliance with the criteria and procedures for recognition of State Agencies for Approval of Nurse Education. The Secretary will use these criteria in determining whether a State agency is a reliable authority as to the quality of training offered by schools of nursing.

Ross Santy,
Office of Chief Data Officer, Office of Planning, Evaluation and Policy Development.

[FR Doc. 2026-03811 Filed 2-25-26; 8:45 am]

BILLING CODE 4000-01-P